DEPARTMENT OF COMMERCE

National Oceanic and Atmospheric Administration

RIN 0648-XF285

Endangered Species; File No. 21293

AGENCY: National Marine Fisheries Service (NMFS), National Oceanic and Atmospheric Administration (NOAA), Commerce.

ACTION: Notice; issuance of permit.

SUMMARY: Notice is hereby given that NMFS has issued a permit to Mr. Jack Rudloe, Gulf Specimen Marine Laboratories, Inc. (GSML), for the incidental take of Gulf sturgeon (Acipenser oxyrinchus desotoi), loggerhead (Caretta caretta Northwest Atlantic Ocean Distinct Population Segment), green (Chelonia mydas North Atlantic Distinct Population Segment), Kemp's ridley (Lepidochelys kempii) and leatherback sea turtles (Dermochelys coriacea) associated with the otherwise lawful trawling activities in Florida state waters of Bay, Gulf, Franklin, and Wakulla Counties.

ADDRESSES: The incidental take permit, final environmental assessment, and other related documents are available on the NMFS Office of Protected Resources website at http://www.nmfs.noaa.gov/pr/permits/esa_review.htm.

FOR FURTHER INFORMATION CONTACT: Sara Wissmann, phone: (301) 427-8402; email: Sara.Wissmann@noaa.gov.

SUPPLEMENTARY INFORMATION: Section 9 of the ESA and Federal regulations prohibits the `taking' of a species listed as endangered or threatened. The ESA defines “take” to mean harass, harm, pursue, hunt, shoot, wound, kill, trap, capture, or collect, or to attempt to engage in any such conduct. NMFS may issue permits, under limited circumstances to take listed species incidental to, and not the purpose of, otherwise lawful activities. Section 10(a)(1)(B) of the ESA provides for authorizing incidental take of listed species. The regulations for issuing incidental take permits for threatened and endangered species are promulgated at 50 CFR 222.307.

NMFS received a permit application from GSML on February 4, 2016. Based on our review of the application, we requested further information and clarification. On July 22, 2016, GSML submitted supplemental information to its application. NMFS and GSML held further discussions on amount and extent of anticipated takes and clarifications of gear type to be used. On March 16, 2017, NMFS notified GSML of this approach, and GSML confirmed the updated approach on March 21, 2017.

On April 12, 2017, we published a notice of application receipt and requested review and comment on the application and conservation plan in the Federal Register (82 FR 17638). The public comment period for the application and conservation plan closed on May 12, 2017. NMFS received three comments on the action, all were generally supportive of the issuance of the permit. Specific concerns were raised on duration of the permit and oversite of activities covered by the permit, which were address in the Environmental Assessment.

On November 6, 2017, we published a notice of availability of the draft Environmental Assessment and requested review and comment in the Federal Register (82 FR 51398). The public comment period for the Environmental Assessment closed on December 6, 2017, and no comments were received. NMFS has issued the requested permit under the authority of the Endangered Species Act of 1973, as amended (ESA; 16 U.S.C. 1531 et seq.) and the regulations governing the taking, importing, and exporting of endangered and threatened species (50 CFR parts 222-226).

This permit authorizes the incidental take of up to a total of six sea turtles, all live, in any combination, of loggerhead, green, Kemp's ridley or leatherback sea turtles and up to six Gulf sturgeon, alive. If incidental captures reach the established level for either turtles or sturgeon, GSML must cease activities authorized under this ITP. Take must be incidental to otherwise lawful trawling activities described in the ITP application, and as conditioned in the permit. This ITP covers incidental take from date of issuance through December 11, 2035.

The conservation plan prepared by GSML describes measures designed to minimize and mitigate the impacts of any incidental takes of ESA-listed sea turtles and sturgeon. The main way that GSML will do this is by limiting tow times to 30 minutes. In the case of incidental capture this plan includes provisions to ensure that any captured sea turtles in need of resuscitation are provided such care, per NMFS guidelines. Additionally, any turtles needing medical attention or rehabilitation will be cared for by authorized persons and facilities. This permit also requires the applicant to follow specific handling procedures for Gulf sturgeon to minimize impacts to this species should an interaction occur. The conservation plan mitigates the impacts of any incidental takes of ESA-listed sea turtles that are harmed due to interactions with other fisheries in the area. Specifically, GSML will remove, taking into account any human safety considerations, any turtles it encounters entangled in fishing lines, nets, and trap ropes. If any of these sea turtles require care, GSML will transport them to a permitted sea turtle rehabilitation facility.

Dated: February 1, 2018.
Angela Somma,
Chief, Endangered Species Conservation Division, Office of Protected Resources, National Marine Fisheries Service.

[FR Doc. 2018-02320 Filed 2-5-18; 8:45 am]

BILLING CODE 3510-22-P